DEPARTMENT OF HEALTH AND HUMAN SERVICES

National Institutes of Health

Proposed Collection; 60-Day Comment Request; Web-based Media Literacy Parent Training for Substance Use Prevention in Rural Locations

SUMMARY: In compliance with the requirement of Section 3506(c)(2)(A) of the Paperwork Reduction Act of 1995, for opportunity for public comment on proposed data collection projects, the National Institute on Drug Abuse (NIDA), the National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and For Further Information: To obtain a copy of the data collection plans and instruments, contact Dr. Augie Diana, Health Scientist Administrator, Prevention Research Branch, Division of Epidemiology, Services, and Prevention Research, NIDA, NIH, 6001 Executive Boulevard, Room 5163, Bethesda, MD 20892, or call non-toll-free number (301) 443-1942 or Email your request, including your address to: dianaa@nida.nih.gov. Formal requests for additional plans and instruments must be requested in writing.

Comments Due Date: Comments regarding this information collection are best assured of having their full effect if received within 60 days of the date of this publication.

Proposed Collection: Web-based Media Literacy Parent Training for Substance Use Prevention in Rural Locations, 0925-New, National Institute on Drug Abuse (NIDA), National Institutes of Health (NIH).

Need and Use of Information Collection: This study will develop a web-based media literacy substance use prevention intervention for use with parents and their elementary school children (approximately ages 7-12), and will evaluate the program in a randomized controlled trial to establish program efficacy in six rural communities in North Carolina and Texas. The primary objectives of the study are to assess the efficacy of a media literacy education program that is specifically designed to overcome barriers to prevention efforts in rural communities, and to provide the scientific basis for establishing the program, Media Detective Family, as an evidence-based substance use prevention curriculum. The information will provide valuable information concerning: (1) The appropriateness of using technology for substance use prevention programming (i.e., internet, Smartphone, or tablet-based applications) to reach rural families with elementary school-aged children; (2) improvements in parents' and children's critical thinking skills associated with intervention exposure; (3) improvements in parent-child communication about substances and the media associated with intervention exposure; and (4) reductions in children's behavioral intentions to use substances associated with intervention exposure.

OMB approval is requested for two years. There are no costs to respondents other than their time. The total estimated annualized burden hours are 1067.

Estimated Annualized Burden Hours
Type of respondents | Number of respondents | Frequency of response | Average time per response | Annual hour burden
Adults
Pretest | 200 | 1 | 1 | 200.00
Posttest |  | 1 | 45/60 | 150.00
Follow-up |  | 1 | 45/60 | 150.00
Usage Log |  | 2 | 10/60 | 67.00
Children
Pretest | 200 | 1 | 1 | 200.00
Posttest |  | 1 | 45/60 | 150.00
Follow-up |  | 1 | 45/60 | 150.00

Dated: March 20, 2013.
Helio Chaves,
Deputy Director Office of Management, NIDA, NIH.

[FR Doc. 2013-07038 Filed 3-26-13; 8:45 am]

BILLING CODE 4140-01-P